DEPARTMENT OF EDUCATION

[Docket ID ED-2021-FSA-0011]

Privacy Act of 1974; Matching Program

AGENCY: Federal Student Aid, Department of Education.

ACTION: Notice of a new matching program.

SUMMARY: This matching program will assist the Department of Education (ED) in its obligation to ensure that borrowers of a loan made under title IV of the Higher Education Act of 1965, as amended (HEA) for the Federal Perkins Loan Program (20 U.S.C. 1087aa et seq.), the William D. Ford Federal Direct Loan Program (20 U.S.C. 1087a et seq.), the Federal Family Education Loan (FFEL) Program (20 U.S.C. 1071 et seq.), or the Federal Insured Student Loan (FISL) Program (20 U.S.C. 1071 et seq.) (referred to collectively herein as “title IV loans”) or with Teacher Education Assistance for College and Higher Education (TEACH) Grant service obligations more efficiently and effectively apply for Total and Permanent Disability (TPD) discharges of their title IV loans or TEACH Grant service obligations.

DATES: Submit your comments on the proposed re-establishment of the matching program on or before June 1, 2021.

The matching program will go into effect 30 days after the publication of this notice, on April 29, 2021, unless comments have been received from interested members of the public requiring modification and republication of the notice. The matching program will continue for 18 months after the effective date and may be renewed for up to an additional 12 months if, within 3 months prior to the expiration of the 18 months, the respective Data Integrity Boards of ED and the Department of Veterans Affairs (VA) determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about the matching program, address them to Brenda Vigna, Division Chief, Federal Student Aid, U.S. Department of Education, 830 First Street NE, Washington, DC 20202-5320.

Privacy Note: The Department's policy is to make all comments received from members of the public available for public viewing in their entirety on the Federal eRulemaking Portal at www.regulations.gov. Therefore, commenters should be careful to include in their comments only information that they wish to make publicly available.

FOR FURTHER INFORMATION CONTACT: Ron Bennett, Director, Program Technical & Business Support Group, Federal Student Aid, U.S. Department of Education, 830 First Street NE, Washington, DC 20202-5320.

If you use a telecommunications device for the deaf (TDD) or a text telephone (TTY), you may call the Federal Relay Service (FRS), toll free, at 1-800-877-8339.

SUPPLEMENTARY INFORMATION: We provide this notice in accordance with Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: The U.S. Department of Education and the U.S. Department of Veterans Affairs.

Authority for Conducting the Matching Program: ED's legal authority to enter into the matching program and to disclose information thereunder is sections 420N(c), 437(a)(1), 455(a)(1), and 464(c)(1)(F)(ii & iii) of the HEA (20 U.S.C. 1070g-2(c), 1087(a)(1), 1087e(a)(1), and 1087dd(c)(1)(F)(ii & iii)); the regulations promulgated pursuant to those HEA sections (34 CFR 674.61(b), 682.402(c), 685.213, and 686.42(b)); and subsections (a)(8) and (b)(1) of the Privacy Act (5 U.S.C. 552a(a)(8) and (b)(1)). VA's legal authority to enter into this matching program and to disclose information thereunder is subsections (a)(8) and (b)(3) of the Privacy Act (5 U.S.C 552a(a)(8) and (b)(3)).

Purpose(s): This matching program will assist ED in its obligation to ensure that borrowers of title IV loans or TEACH Grant service obligations more efficiently and effectively apply for TPD discharge of their title IV loans or TEACH Grant service obligations. ED will proactively send notices to borrowers who VA has designated as (1) having a service-connected disability rating that is 100 percent disabling, or (2) being totally disabled based on an individual unemployability rating, informing them that ED will discharge the borrower's title IV loans or TEACH Grant service obligations no earlier than 61 days from the date that ED sends the notification to the borrower, unless the borrower chooses to have their title IV loans or TEACH Grant service obligations discharged earlier or chooses to opt out of the TPD discharge within 60 days from the date that ED sends the notification to the borrower. ED's notices also will inform these borrowers that ED has accepted information obtained from the VA in lieu of the borrower's submission of a VA Statement with the borrower's TPD loan discharge application, thereby simplifying the TPD discharge process for borrowers.

Categories of Individuals: The individuals whose records are used in the matching program are described as follows:

VA will disclose to ED records on Veterans who are in receipt of VA disability compensation benefits with a VA determination that they have a 100 percent disabling service-connected disability rating or that they are totally disabled based on an individual unemployability rating, along with the VA disability determination date for each such individual. ED will then match the file received from VA with ED's records on borrowers of title IV loans, as contained in ED's system of records entitled “National Student Loan Data System (NSLDS)” (18-11-06) who owe a balance on a title IV Loan, have had any loans under title IV of the HEA written off due to default, or are responsible for completing a service obligation in exchange for having received a TEACH Grant under the TEACH Grant Program.

Categories of Records: The records used in the matching program are described as follows:

VA will disclose to ED, on a quarterly basis, the name (first, middle, and last), date of birth (DOB), and Social Security number (SSN) of all individuals who are in receipt of VA disability compensation benefits with a VA determination that they have a 100 percent disabling service-connected disability rating or that they are totally disabled based on an individual unemployability rating, along with the VA disability determination date for each such individual. ED will match the VA records to the ED system of records entitled “National Student Loan Data System (NSLDS)” (18-11-06).

System(s) of Records: VA will use the VA system of records entitled “Compensation, Pension, Education, and Vocational Rehabilitation and Employment Records—VA” (58VA21/22/28), last published in the Federal Register in full on February 14, 2019 (84 FR 4138). VA has determined that routine use 39 in the foregoing system of records is compatible with the purpose for which the information is collected and contains appropriate Privacy Act disclosure authority.

ED will match information obtained from VA with ED records maintained in ED's system of records entitled “National Student Loan Data System (NSLDS)” (18-11-06). The NSLDS system of records notice was last published in the Federal Register in full on September 9, 2019 (84 FR 47265).

ED will also maintain matched information obtained from VA in the system of records identified as “Common Services for Borrowers (CSB) (18-11-16),” as last published in the Federal Register in full on September 2, 2016 (81 FR 60683).

Accessible Format: On request to Lisa Tessitore, Program Operations Specialist, Federal Student Aid, U.S. Department of Education, 830 First Street NE, Washington, DC 20202-5320, telephone: (202) 377-3249. Individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark A. Brown,
Chief Operating Officer, Federal Student Aid.

[FR Doc. 2021-08991 Filed 4-28-21; 8:45 am]

BILLING CODE 4000-01-P